INTERNATIONAL TRADE COMMISSION

[Investigation No. 731-TA-903 (Review)]

Hot-Rolled Steel Products From the Netherlands

AGENCY: United States International Trade Commission.

ACTION: Termination of review.

SUMMARY: On August 1, 2006, the Department of Commerce (“Commerce”) initiated and the U.S. International Trade Commission (“Commission”) instituted a five-year review concerning the antidumping duty order on hot-rolled steel products (“hot-rolled steel”) from the Netherlands. 71 FR 43443 and 71 FR 43521. However, on May 4, 2007, Commerce published notice in the Federal Register of the implementation of the findings of the World Trade Organization Panel under section 129 of the Uruguay Round Agreements Act and the revocation of the antidumping duty order concerning hot-rolled steel from the Netherlands effective April 23, 2007. 72 FR 25261. On June 27, 2007, Commerce published notice in the Federal Register of its final results of the sunset review of the antidumping duty order on hot-rolled steel from the Netherlands. 72 FR 35220. In that notice, Commerce determined that a finding of likelihood in a sunset review “presumes the existence of an antidumping duty order currently in force, which is manifestly not the case here. Consequently, in the absence of an order currently in force, the Department cannot make a finding that it is likely that dumping will continue or recur if the order is revoked.” 72 FR 35221. Commerce further stated that it was revoking the antidumping duty order on hot-rolled steel from the Netherlands effective November 29, 2006, the fifth anniversary of the date of publication of the order. Accordingly, pursuant to section 751(c) of the Tariff Act of 1930 (19 U.S.C. 1675(c)), the five-year review of the antidumping duty order concerning hot-rolled steel from the Netherlands (investigation No. 731-TA-903 (Review)) is terminated.

DATES: Effective Date: June 27, 2007.

FOR FURTHER INFORMATION CONTACT: Mary Messer (202-205-3193), Office of Investigations, U.S. International Trade Commission, 500 E Street SW, Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its Internet server (http://www.usitc.gov). The public record for this review may be viewed on the Commission's electronic docket (EDIS) at http://edis.usitc.gov.

Authority: This review is being terminated under authority of title VII of the Tariff Act of 1930; this notice is published pursuant to section 207.69 of the Commission's rules (19 CFR 207.69).

By order of the Commission.
Issued: July 18, 2007.
Marilyn R. Abbott,
Secretary to the Commission.

[FR Doc. E7-14187 Filed 7-23-07; 8:45 am]

BILLING CODE 7020-02-P